FEDERAL COMMUNICATIONS COMMISSION

[Report No. 2436]

Petitions for Reconsideration and Clarification of Action in Rulemaking Proceedings

September 11, 2000.

Petitions for Reconsideration and Clarification have been filed in the Commission's rulemaking proceedings listed in this Public Notice and published pursuant to 47 CFR Section 1.429(e). The full text of this document is available for viewing and copying in Room CY-A257, 445 12th Street, S.W., Washington, D.C. or may be purchased from the Commission's copy contractor, ITS, Inc. (202) 875-3800. Oppositions to these petitions must be filed by October 2, 2000. See Section 1.4(b)(1) of the Commission's rules (47 CFR 1.4(b)(1)). Replies to an opposition must be filed within 10 days after the time for filing oppositions has expired.

Subject: Implementation of the Subscriber Carrier Selection Changes Provisions of the Telecommunications Act of 1996 (CC Docket No. 904-129).

Policies and Rules Concerning Unauthorized Changes of Consumers Long Distance Carriers

Number of Petitions Filed: 2.

Subject: Federal-State Joint Board on Universal Service; Promoting Deployment and Subscribership in Unserved and Underserved Areas, Including Tribal and Insular Areas

Western Wireless Corporation, Crow Reservation in Montana (CC Docket No. 96-45)

Smith Bagley, Inc.

Cheyenne River Sioux Tribe Telephone Authority Western Wireless Corporation, Wyoming

Cellco Partnership d/b/a/ Bell Atlantic Mobile, Inc.

Petitions for Designation as an Eligible Telecommunications Carrier and for Related Waivers to Provide Universal Service

Number of Petitions Filed: 10.

Federal Communications Commission.
Magalie Roman Salas,
Secretary.

[FR Doc. 00-23805 Filed 9-14-00; 8:45 am]

BILLING CODE 6712-01-M